FARM CREDIT ADMINISTRATION

12 CFR Parts 611 and 614

RIN 3052-AB86

Organization; Loan Policies and Operations; Termination of Farm Credit Status; Effective Date

AGENCY: Farm Credit Administration.

ACTION: Notice of effective date.

SUMMARY: The Farm Credit Administration (FCA) published a final rule under parts 611 and 614 on April 12, 2002 (67 FR 17907). This final rule amends our regulations to allow a Farm Credit System (FCS or System) bank or association to terminate its FCS charter and become a financial institution under another Federal or State chartering authority. Our purpose is to amend the existing regulations so they apply to all System banks and associations and to make other changes. In accordance with 12 U.S.C. 2252, the effective date of the final rule is 30 days from the date of publication in the Federal Register during which either or both Houses of Congress are in session. Based on the records of the sessions of Congress, the effective date of the regulations is May 13, 2002.

Effective Date: The regulation amending 12 CFR parts 609 and 620 published on April 12, 2002 (67 FR 17907) is effective May 13, 2002.

FOR FURTHER INFORMATION CONTACT:

Alan Markowitz, Senior Policy Analyst, Office of Policy and Analysis, Farm Credit Administration, McLean, VA 22102-5090, (703) 883-4498, TTY (703) 883-4434;

or

Rebecca S. Orlich, Senior Attorney, Office of General Counsel, Farm Credit Administration, McLean, VA 22102-5090, (703) 883-4020, TTY (703) 883-2020.

(12 U.S.C. 2252(a)(9) and (10))

Dated: May 8, 2002.
Kelly Mikel Williams,
Secretary, Farm Credit Administration Board.

[FR Doc. 02-11878 Filed 5-10-02; 8:45 am]

BILLING CODE 6705-01-P